DEPARTMENT OF ENERGY

10 CFR Part 429

[EERE-2022-BT-TP-0028]

RIN 1904-AF49

Energy Conservation Program: Test Procedure for Central Air Conditioners and Heat Pumps

AGENCY: Office of Energy Efficiency and Renewable Energy, Department of Energy.

ACTION: Final rule.

SUMMARY: The U.S. Department of Energy (“DOE”) is finalizing a one-year delay of certain product-specific enforcement provisions related to the controls verification procedure established in a recently published final rule amending the test procedures for central air conditioners and heat pumps.

DATES: The effective date of this rule is September 9, 2025.

ADDRESSES: The docket, which includes Federal Register notices, public meeting attendee lists and transcripts, comments, and other supporting documents/materials, is available for review at www.regulations.gov. All documents in the docket are listed in the www.regulations.gov index. However, not all documents listed in the index may be publicly available, such as those containing information that is exempt from public disclosure.

A link to the docket web page can be found at www.regulations.gov/docket/EERE-2022-BT-TP-0028. The docket web page contains instructions on how to access all documents, including public comments, in the docket.

For further information on how to review the docket contact the Appliance and Equipment Standards Program staff at (202) 287-1445 or by email: ApplianceStandardsQuestions@ee.doe.gov.

FOR FURTHER INFORMATION CONTACT:

Ms. Julia Hegarty, U.S. Department of Energy, Office of Energy Efficiency and Renewable Energy, Building Technologies Office, EE-5B, 1000 Independence Avenue SW, Washington, DC 20585-0121. Telephone: (202) 255-0630. Email: ApplianceStandardsQuestions@ee.doe.gov.

Mr. Pete Cochran, U.S. Department of Energy, Office of the General Counsel, GC-33, 1000 Independence Avenue SW, Washington, DC 20585-0121. Telephone: (202) 586-4798. Email: peter.cochran@hq.doe.gov.

SUPPLEMENTARY INFORMATION:

Table of Contents

I. Authority and Background

II. Discussion

A. Summary of Comments Received

1. Comments Supporting the Proposed One-Year Delay of CVP Enforcement

2. Comments Opposing the Proposed One-Year Delay of CVP Enforcement

3. Other Comments

B. Conclusion

III. Effective Date

IV. Procedural Issues and Regulatory Review

V. Approval of the Office of the Secretary

I. Authority and Background

The Energy Policy and Conservation Act, Public Law 94-163, as amended (“EPCA”),¹ authorizes DOE to regulate the energy efficiency of a number of consumer products and certain industrial equipment. (42 U.S.C. 6291-6317, as codified) Title III, Part B of EPCA ² established the Energy Conservation Program for Consumer Products Other Than Automobiles, which sets forth a variety of provisions designed to improve energy efficiency. Central air conditioners (“CACs”) and central air conditioning heat pumps (“HPs”) (collectively, “CAC/HPs”) are included in the list of “covered products” for which DOE is authorized to establish and amend energy conservation standards and test procedures. (42 U.S.C. 6292 (a)(3)) DOE's currently applicable test procedure for CAC/HPs is prescribed at 10 CFR part 430, subpart B, appendix M1 (“appendix M1”).

¹ All references to EPCA in this document refer to the statute as amended through the Energy Act of 2020, Public Law 116-260 (Dec. 27, 2020), which reflect the last statutory amendments that impact Parts A and A-1 of EPCA.

² For editorial reasons, upon codification in the U.S. Code, Part B was redesignated Part A.

On January 7, 2025, DOE published a final rule amending the Federal test procedures for CAC/HPs (“January 2025 Final Rule”). 90 FR 1224. The January 2025 Final Rule amended the currently applicable test procedure at appendix M1 and also established a new test procedure at 10 CFR part 430, subpart B, appendix M2 (“appendix M2”), the use of which would be required beginning on the compliance date of any future amended standards for CAC/HPs based on the new efficiency metrics established in appendix M2. Id. at 90 FR 1284. Additionally, the January 2025 Final Rule established enforcement provisions related to the use of a controls verification procedure (“CVP”), to be conducted per industry standards AHRI 210/240-2024 and AHRI 1600-2024 for the purposes of CAC/HP assessment and enforcement testing. Id. at 90 FR 1224, 1255-1265.

On January 20, 2025, President Trump issued the “Regulatory Freeze Pending Review” memorandum, which was published in the Federal Register on January 25, 2025. 90 FR 8249. This Presidential action ordered all executive departments and agencies to consider postponing for 60 days the effective date of certain rules published in the Federal Register for the purpose of reviewing any questions of fact, law, and policy that the rules may raise. Additionally, executive departments and agencies were to consider opening a comment period to allow interested parties to provide comments about issues of fact, law, and policy raised by the rules postponed under the memorandum.

Consistent with the “Regulatory Freeze Pending Review” Presidential memorandum of January 20, 2025, DOE delayed the effective date of the January 2025 Final Rule to March 21, 2025 (“February 2025 delay of effective date”). 90 FR 9001, (February 5, 2025). DOE also sought comment on any further delay of the effective date, including the impacts of such delay, as well as comment on the legal, factual, or policy issues raised by the rule. Id.

Following the February 2025 delay of effective date, DOE delayed the effective date of the January 2025 Final Rule twice more, to allow time for further review of comments received. The first of these additional delays extended the effective date of the January 2025 Final Rule to May 20, 2025. 90 FR 13052 (March 30, 2025). The second of these additional delays extended the effective date of the January 2025 Final Rule to July 7, 2025. 90 FR 21389 (May 20, 2025). Neither of these additional delays nor the initial February 2025 delay of effective date affected the compliance date of the January 2025 Final Rule, which remains July 7, 2025.

In response to the February 2025 delay of effective date, comments from interested parties advocating for a further delay in the effective date of the January 2025 Final Rule were largely limited to the CVP provisions established by the January 2025 Final Rule. Multiple commenters provided justification for further delaying the CVP enforcement provisions of the January 2025 Final Rule, with most commenters suggesting a one-year delay. DOE published a notice of proposed rulemaking (“NOPR”) on May 29, 2025 (“May 2025 NOPR”), in which DOE tentatively determined that a further delay in implementation of the CVP provisions is warranted and proposed to delay implementation of the CVP provisions at 10 CFR 429.134(k)(4) until July 7, 2026 (i.e., a one-year delay from the original compliance date). 90 FR 22671, 22674.

DOE received comments in response to the May 2025 NOPR from the interested parties listed in Table I.1.

Table I.1—List of Commenters With Written Submissions in Response to the May 2025 NOPR
Commenter(s) | Reference in this final rule | Comment No. in the docket | Commenter type
Air-Conditioning, Heating, & Refrigeration Institute | AHRI | 72 | Trade Association.
Allstyle Coil Company | Allstyle | 78 | Manufacturer.
Anonymous | Anonymous | 63 | Individual.
Appliance Standards Awareness Project | ASAP | 80 | Efficiency Advocacy Organization.
AUX Air USA | AUX Air | 67 | Manufacturer.
Bosch Home Comfort | Bosch | 77 | Manufacturer.
China WTO/TBT * National Notification & Enquiry Center | P.R. China | 64 and 68 | Foreign Government.
Daikin Comfort Technologies North America, Inc | Daikin | 81 | Manufacturer.
Daniel Simpson | Simpson | 65 | Individual.
Fujitsu General America, Inc | Fujitsu | 73 | Manufacturer.
GE Appliances | GE Appliances | 70 | Manufacturer.
Johnson Controls | JCI | 79 | Manufacturer.
Lennox International | Lennox | 74 | Manufacturer.
LG Electronics U.S.A., Inc | LG | 66 | Manufacturer.
Mitsubishi Electric US, Inc | Mitsubishi | 71 | Manufacturer.
Mortex Products, Inc | Mortex | 76 | Manufacturer.
Northwest Energy Efficiency Alliance | NEEA | 83 | Efficiency Organization.
Rheem Manufacturing Company | Rheem | 75 | Manufacturer.
Trane Technologies | Trane | 82 | Manufacturer.
Unico, Inc | Unico | 69 | Manufacturer.
* WTO/TBT refers to World Trade Organization/Technical Barriers to Trade.

A parenthetical reference at the end of a comment quotation or paraphrase provides the location of the item in the public record.³

³ The parenthetical reference provides a reference for information located in the docket of DOE's rulemaking to develop test procedures for insert product. (Docket No. EERE-2022-BT-TP-0028, which is maintained at: www.regulations.gov). The references are arranged as follows: (commenter name, comment docket ID number at page of that document).

The following section discusses comments received in response to the May 2025 NOPR.

II. Discussion

A. Summary of Comments Received

1. Comments Supporting the Proposed One-Year Delay of CVP Enforcement

AHRI supported the May 2025 NOPR proposal for a one-year delay of CVP enforcement provisions. (AHRI, No.72 at p.1) AHRI commented that the delay would allow time for further CVP testing and procedure evaluation, which may be used to provide additional clarifications on the CVP, referenced by DOE, in AHRI 210/240-2024 and AHRI 1600-2024. (Id. at pp.1-2)

Similarly, comments received from Allstyle, AUX Air, Bosch, Daikin, GE Appliances, JCI, LG, Mitsubishi, Mortex, Rheem, Trane, and Unico supported the May 2025 NOPR proposal for a one-year delay of CVP enforcement provisions. (Allstyle, No.78 at p.1; AUX Air, No.67 at p.1; Bosch, No.77 at p.2; Daikin, No.81 at p.2; GE Appliances, No.70 at p.3; JCI, No.79 at p.1; LG, No.66 at p.1; Mitsubishi, No.71 at p.1; Mortex, No.76 at p.1; Rheem, No.75 at p.1; Trane, No.82 at p.2; Unico, No.69 at p.1) Several of these commenters stated their reason for supporting the proposal was that the delay would allow time for additional CVP testing to inform possible refinements or clarifications of the CVP methodology. (Allstyle, No.78 at p.1; Bosch, No.77 at p.2; Daikin, No.81 at pp.2-4; GE Appliances, No.70 at p.1; JCI, No.79 at p.1; Mortex, No.76 at p.1; Trane, No.82 at p.2; Unico, No.69 at p.2) Other reasons stated for supporting the proposed delay included the following: concerns over the repeatability and/or reproducibility of the CVP (Bosch, No.77 at p.2; Daikin, No.81 at pp.2-3; GE Appliances, No.70 at pp.1-2; JCI, No.79 at p.1; Mitsubishi, No.71 at pp.1-2; Trane, No.82 at p.2); concerns that the capacity and energy efficiency ratio tolerances selected by DOE at 10 CFR 429.134(k)(4) have not been adequately validated (Bosch, No.77 at p.2; Daikin, No.81 at p.3; LG, No.66 at p.1; Rheem, No.75 at p.1); concerns that market disruption may be created by CVP enforcement without the proposed delay, with negative consumer consequences (Bosch, No.77 at p.2; Daikin, No.81 at p.2; LG, No.66 at p.1; Unico, No.69 at p.1); concerns that the CVP is time-consuming and costly to perform (AUX Air, No.67 at p.1; Bosch, No.77 at p.2; Daikin, No.81 at pp.3-4); and concerns that the CVP methodology does not adequately address certain product types or product behaviors (e.g., multi-split systems, defrost cycles, oil return cycles, incidental protective subroutines) (AUX Air, No.67 at p.1; GE Appliances, No.70 at pp.1-2; Mitsubishi, No.71 at pp.1-2).

Additionally, Bosch commented that, without the proposed delay, CVP enforcement would unfairly penalize variable-speed systems that provide superior performance and energy savings to consumers. (Bosch, No.77 at p.2) Daikin stated that, without the proposed delay, CVP enforcement would require the re-design of some existing products, with little benefit to consumers. (Bosch, No.77 at p.2; Daikin, No.81 at pp.3-4)

Further, GE Appliances commented that the proposed delay would allow the sell-through period for R-410A products to finish before CVP enforcement takes effect. (GE Appliances, No.70 at p.2) JCI commented that the proposed delay would allow time for laboratory upgrades needed to perform the CVP on products. (JCI, No.79 at p.1)

Lastly, Daikin, Mitsubishi, and Unico requested that DOE prepare to make revisions to its CVP references and/or CVP enforcement provisions during the proposed delay. (Daikin, No.81 at p.4; Mitsubishi, No.71 at p.2; Unico, No.69 at p.2) While Fujitsu did not directly comment on the one-year delay of the CVP enforcement provisions as proposed in the May 2025 NOPR, it urged DOE to be flexible with CVP enforcement. (Fujitsu, No.73 at p.1) Noting that industry and AHRI are still collecting and evaluating CVP test data, Fujitsu commented that DOE should consider further delaying CVP enforcement into 2027 or later if results of testing indicate major revisions of the CVP are necessary. (Id.)

2. Comments Opposing the Proposed One-Year Delay of CVP Enforcement

ASAP, Lennox, and NEEA commented in opposition to the May 2025 NOPR proposal for a one-year delay of CVP enforcement provisions. (ASAP, No.80 at p.1; Lennox, No.74 at p.3; NEEA, No.83 at p.1) All three commenters stated that the CVP was developed collaboratively with industry (ASAP, No.80 at p.1, Lennox, No.74 at p.2; NEEA, No.83 at pp.1-2) and that the CVP benefits consumers by ensuring variable-speed systems operate with the efficiency and comfort claimed by manufacturers. (ASAP, No.80 at p.1; Lennox, No.74 at pp.1-3; NEEA, No.83 at p.1) Further, ASAP commented that the tolerances selected by DOE at 10 CFR 429.134(k)(4) were supported with data presented in the January 2025 Final Rule. (ASAP, No.80 at p.1)

Lennox commented that the CVP provides a more level playing field for manufacturers because it provides a consistent and representative approach to ensuring variable-speed systems operate as indicated by manufacturers. (Lennox, No.74 at pp.1-2) Lennox also stated that the proposed delay would benefit manufacturers that are primarily foreign-owned and whose variable-speed products do not perform properly. (Id. at p.2) By moving forward with the proposed delay, Lennox asserted that DOE would improperly provide relief to these manufacturers and create an unlevel playing field for other manufacturers, including itself, that have taken steps to comply with the CVP. (Id.) Lennox pointed to previous comments submitted by the Carrier Global Corporation (“Carrier”), Trane, and itself in response to the February 2025 delay of effective date as examples of manufacturers that have evaluated the CVP and have concluded that the procedure appropriately represents the operation of variable-speed equipment. (Id.) Lastly, Lennox commented that, to the benefit of consumers, the CVP promotes innovation and helps avoid poor product designs among manufacturers. (Id. at p.3)

In its comments, NEEA also noted that Carrier, Lennox, and Trane had expressed confidence in the CVP finalized by the January 2025 Final Rule in responses to the February 2025 delay of effective date. (NEEA, No.83 at pp.1-2) NEEA stated that its recent lab testing ⁴ supports the urgency of implementing the CVP enforcement provisions because a substantial fraction of systems tested would likely fail the procedure. (Id. at p.2) NEEA commented that its findings from lab testing align with field-performance data from the Bonneville Power Administration, which showed one-third of 17 variable-speed units behaving as fixed-speed systems. (Id.)

⁴ See neea.org/resource/low-load-efficiency-heat-pump-performance/.

Moreover, NEEA commented that the CVP was designed to minimize testing burden because it does not require testing every model line (i.e., only enough to ensure consistent variable-speed operation across product lines) and utilizes generous tolerance bands for flexibility. (Id.) NEEA stated that the CVP was designed to close a known loophole in variable-speed representations to reflect real-world energy use, while complying with DOE's statutory obligation to ensure test procedures are not unduly burdensome to conduct. (Id.)

3. Other Comments

This section summarizes comments received regarding the January 2025 Final Rule as a whole (i.e., not specific to the May 2025 NOPR proposal for a one-year delay of CVP enforcement provisions).

Two individual commenters recommended that the January 2025 Final Rule not be delayed. (Simpson, No.65 at p.1; Anonymous, No.63 at p.1) Simpson further expressed that a delay or rescission of the January 2025 Final Rule would disregard the sunk cost of developing the AHRI standards that the final rule incorporates by reference. (Simpson, No.65 at p.1)

AHRI recommended that DOE refrain from any further delays to the effective date of the January 2025 Final Rule, for all sections besides the CVP enforcement provisions, to implement improvements in the representativeness of the test procedure benefiting consumers and other key stakeholders. (AHRI, No.72 at p.2) Similarly, Rheem, Daikin, and Trane commented that DOE should retain the July 7, 2025, effective date for all other sections (i.e., all except the CVP enforcement provisions) of the January 2025 Final Rule. (Rheem, No.75 at pp.1-2; Daikin, No.81 at p.4; Trane, No.82 at p.2) Trane further commented that maintaining the effective date of the January 2025 Final Rule would promote regulatory predictability so that manufacturers could move forward with equipment design and manufacturing. (Trane, No.82 at p.2) Rheem asserted that maintaining the effective date for the January 2025 Final Rule would lessen confusion surrounding outdoor units with no match (“OUWNM”) and guidance on the disposition of existing R-410A refrigerant system inventory. (Rheem, No.75 at pp.1-2)

Unico, Mortex, and Allstyle requested that DOE consider excluding independent coil manufacturers (“ICMs”) ⁵ from the requirement to comply with the CVP enforcement provisions. (Unico, No.69 at pp.1-2; Mortex, No.76 at pp.1-2; Allstyle, No.78 at pp.1-2) To substantiate their request, Unico, Mortex, and Allstyle commented that, in the case of an ICM matchup with a coil-only indoor unit, there are no controls in the coil-only indoor unit that would impact the variable-speed outdoor unit's control system and, subsequently, CVP results. (Id.) In the case of an ICM matchup with a blower-coil indoor unit, the commenters stated that there would only be blower motor controls in the blower-coil indoor unit, and that these blower motor controls would have no direct interaction with the variable-speed outdoor unit's control system. (Id.) Further, Unico, Mortex, and Allstyle stated that nearly all ICM matchups with variable-speed outdoor units use non-communicating controls. (Id.) The three commenters added that, with non-communicating controls in an ICM matchup, the indoor unit is unlikely to have a measurable effect on CVP results because, in such cases, the indoor unit is only providing basic inputs (e.g., calls for cooling/heating) to the outdoor unit rather than participating in a closed-loop control logic. (Id.)

⁵ ICMs are manufacturers that manufacture indoor units (e.g., coil-only or blower-coil units) but do not manufacture single-package units or outdoor units. ICMs match the indoor units they manufacture to the outdoor units of other manufacturers.

P.R. China provided two separate comments to the May 2025 NOPR with recommendations regarding compliance dates. In its first submitted comment, P.R. China requested that DOE postpone the compliance date of the entire January 2025 Final Rule to 180 days after its effective date, for the purpose of allowing a transition period. (P.R. China, No.64 at pp.6-9) P.R. China commented that, currently, there is no transition period for complying with the January 2025 Final Rule because its effective date and compliance date are now both July 7, 2025. (Id.) With no transition period, P.R. China asserted that manufacturers cannot recertify their products in appropriate time since certification bodies can only accept new certifications after a rule takes effect. (Id.) P.R. China referenced previous final rules published by DOE as precedent for having transition periods of approximately 180 days. (Id.) P.R. China also cited Article 5.9 of the World Trade Organization Agreement on Technical Barriers to Trade (“WTO TBT Agreement”) as reason for having a transition period.⁶ (Id.)

⁶ Article 5.9 of the WTO TBT Agreement states that “except in those urgent circumstances referred to in paragraph 7, Members shall allow a reasonable interval between the publication of requirements concerning conformity assessment procedures and their entry into force in order to allow time for producers in exporting Members, and particularly in developing country Members, to adapt their products or methods of production to the requirements of the importing Member.” See www.wto.org/english/docs_e/legal_e/tbt_e.htm#art5.

In its second submitted comment, P.R. China requested that DOE delay the compliance date for the January 2025 Final Rule to July 1, 2027. (P.R. China, No.68 at p.3) P.R. China stated that the CVP provisions would add time and cost burden because manufacturers want to ensure compliance with increased testing. (P.R. China, No.68 at p. 3) P.R China further stated that product redesign and upgrades to testing labs would be necessary to ensure compliance, and that the proposed CVP tolerances needed to be verified by industry. (Id.) P.R. China also asserted that the EPA Technology Transition Rule may be reconsidered, which could impact OUWNM provisions in the January 2025 Final Rule. (Id.)

Lastly, P.R China offered the following concerns regarding the CVP enforcement provisions and methodology: (1) that a contradiction in regulations exists by only incorporating the AHRI 210/240-2024 and AHRI 1600-2024 CVP appendices in 10 CFR 429 and not in appendix M1; and (2) that the 3 °F temperature rise in the CVP's return air temperature (“RAT”) equation (i.e., 83 °F−80 °F) is not large enough to generate a full-load response that matches the cooling capacity of the AFull regulatory test. (P.R. China, No.64 at pp.2-6) P.R. China suggested that DOE clarify the contradiction in regulations and modify the CVP methodology to allow for a larger temperature rise in the RAT equation. (Id. at p.9)

B. Conclusion

After considering the comments received in response to the May 2025 NOPR, DOE has determined that a one-year delay of the CVP enforcement provisions is appropriate. DOE acknowledges the concerns of AHRI, P.R. China, and industry stakeholders that additional time is needed to conduct further CVP testing, evaluate the CVP methodology, and provide clarifications if necessary. While a few commenters opposed the proposed delay, citing the benefits of CVP enforcement for consumers, DOE finds that the additional time will better support an effective implementation of the CVP.

Accordingly, DOE is finalizing the proposed one-year delay of the CVP enforcement provisions at 10 CFR 429.134(k)(4), amending the date of applicability to July 7, 2026. Furthermore, in light of this final rule being published after the effective date of the test procedure and enforcement provisions as amended by the January 2025 Final Rule, DOE will exercise its enforcement discretion and will not apply the CVP enforcement provisions set forth at 10 CFR 429.134(k)(4) to impacted units manufactured between July 7, 2025, and the effective date of this final rule.

In response to comments from P.R. China requesting a delay in the compliance date of the entire test procedure adopted in the January 2025 Final Rule to allow for a transition period, DOE notes that EPCA does not require manufacturers to immediately use test procedures upon publication in the Federal Register. Manufacturers have 180 days before representations of energy use or efficiency have to be based on the new test procedure. (42 U.S.C. 6293(c)(2)) The January 2025 Final Rule was published on January 7, 2025, which provided a 180-day period prior to the July 7, 2025, compliance date. Manufacturers, distributors, retailers, and private labelers may also petition DOE for a compliance date extension of up to an additional 180 days. (42 U.S.C. 6293(c)(3)) Thus, DOE is not delaying the compliance date of the January 2025 Final Rule (with the exception of delaying applicability of the CVP enforcement provisions). July 7, 2025, remains both the effective date and compliance date of the January 2025 Final Rule. With regards to P.R. China's request for a delay of the January 2025 Final Rule compliance date to July 1, 2027, due to CVP concerns, DOE notes that the one-year delay in CVP enforcement provides manufacturers, both domestic and international, with additional time to prepare for compliance and to ensure that the CVP is implemented in an effective manner.

Regarding P.R. China's concern about a contradiction in regulation, DOE clarifies that the CVP is not incorporated by reference in appendix M1 because it is not a required element of the test procedure for certification. Rather, the CVP is used for DOE assessment and enforcement purposes. As such, its incorporation in 10 CFR 429.4 and 429.134, rather than appendix M1, is consistent with its intended use and does not represent a contradiction in regulation.

With regards to the comments that ICM models should be excluded from the requirement to comply with the CVP enforcement provisions, DOE is not amending the CVP provisions at this time to provide any exclusion for ICM models certified as variable capacity. As discussed in the January 2025 Final Rule, the CVP test provisions represented industry consensus regarding: (1) the verification of compliance of systems with the variable capacity system definition, and (2) verification of the consistency of fixed-speed settings of compressor and indoor fans with native control operation as part of enforcement. 90 FR 1224, 1232. When the CVP provisions take effect, DOE may perform the CVP for any model certified as a variable capacity compressor system for the purposes of assessment or enforcement testing, including ICM models certified as variable capacity.

III. Effective Date

The Administrative Procedure Act (“APA”) requires that agencies publish a rule not less than 30 days before the rule will become effective, unless an exception from this requirement applies. (5 U.S.C. 553(d)) Under the APA, agencies may bypass this 30-day delay if the final rule “relieves a restriction” or if the agency finds “good cause.” Here, both exceptions apply. First, this final rule delays the implementation of the CVP enforcement provisions until July 7, 2026. Under the January 2025 Final Rule, the implementation date of the CVP enforcement provisions was July 7, 2025. Thus, this final rule relieves a restriction as it is delaying the implementation date of the CVP enforcement provisions for one year and delaying the application of these provisions.

Second, as stated previously, DOE will not apply the CVP enforcement provisions to models manufactured between July 7, 2025, and the effective date of this final rule. Moreover, DOE foresees little, if any, harm done by bypassing the 30-day delay in effectiveness. Rather, DOE finds that there is a good cause to forego the generally required 30-day delay because having the final rule effective upon publication will avoid potential confusion regarding the applicability of the CVP enforcement provisions.

IV. Procedural Issues and Regulatory Review

DOE has concluded that the determinations made pursuant to the various procedural requirements applicable to the January 2025 Final Rule remain unchanged for this final rule. These determinations are set forth in the January 2025 Final Rule and are adopted here. 90 FR 1224, 1268-1272.

V. Approval of the Office of the Secretary

The Secretary of Energy has approved publication of this final rule.

List of Subjects in 10 CFR Part 429

Administrative practice and procedure, Confidential business information, Energy conservation, Household appliances, Imports, Intergovernmental relations, Reporting and recordkeeping requirements, Small businesses.

Signing Authority

This document of the Department of Energy was signed on September 4, 2025, by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 4, 2025.
Jennifer Hartzell,
Alternate Federal Register Liaison Officer, U.S. Department of Energy.

For the reasons stated in the preamble, DOE amends part 429 of Chapter II of Title 10, Code of Federal Regulations as set forth below:

PART 429—CERTIFICATION, COMPLIANCE, AND ENFORCEMENT FOR CONSUMER PRODUCTS AND COMMERCIAL AND INDUSTRIAL EQUIPMENT

1. The authority citation for part 429 continues to read as follows:

Authority: 42 U.S.C. 6291-6317; 28 U.S.C. 2461 note.

2. Amend § 429.134 by revising the introductory text to paragraph (k) to read as follows:

§ 429.134 Product-specific enforcement provisions.

* * * * *

(k) Central air conditioners and heat pumps. Before July 7, 2025, the provisions in this section of this title as it appeared in the 10 CFR parts 200-499 edition revised as of January 1, 2023 are applicable. On and after July 7, 2025, provisions in paragraphs (k)(1), (2) and (3) of this section shall apply. On and after July 7, 2026, provisions in paragraph (k)(4) of this section shall also apply.

* * * * *

[FR Doc. 2025-17227 Filed 9-8-25; 8:45 am]

BILLING CODE 6450-01-P